DEPARTMENT OF ENERGY

Federal Energy Regulatory Commission

[Project No. P-5018-004]

Wellesley Rosewood Maynard Mills, L.P.; Notice of Site Review

April 22, 2002.

Wellesley Rosewood Maynard Mills, L.P. (WRMM), licensee for the Clock Tower Place Project (Project), requests to surrender its exemption from licensing for the existing, non-operational Project. On May 14, 2002, the staff of the Office of Energy Projects (OEP) will conduct a site review of the Project. Representatives of WRMM will accompany the OEP staff. All interested parties may meet at 9:30 A.M. at the Project dam. Attendees must provide their own transportation.

For further information, please contact the Commission's Office of External Affairs at (202) 208-1088.

Magalie R. Salas,
Secretary.

[FR Doc. 02-10442 Filed 4-26-02; 8:45 am]

BILLING CODE 6717-01-P